DEPARTMENT OF HOUSING AND URBAN DEVELOPMENT

[Docket No. FR-5910-N-08]

60-Day Notice of Proposed Information Collection: Emergency Solutions Grant Data Collection

AGENCY: Office of Community Planning and Development, (HUD).

ACTION: Notice of proposed information collection.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 15, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Norm Suchar, Director, Office of Special Needs Assistance Programs, Office of Community Planning and Development, Department of Housing and Urban Development, 451 7th Street SW., Room 7262, Washington, DC 20410; telephone (202) 708-5015 (this is not a toll-free number). Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Emergency Solutions Grants Program Recordkeeping Requirements.

OMB Approval Number: 2506-0089.

Type of Request: Extension of currently approved collection.

Form Number:

Description of the need for the information and proposed use: This submission is to request an extension of a currently approved collection for the reporting burden associated with program and recordkeeping requirements that Emergency Solutions Grants (ESG) program recipients will be expected to implement and retain. This submission is limited to the recordkeeping burden under the ESG entitlement program. To see the regulations for the ESG program and applicable supplementary documents, visit the ESG page on the HUD Exchange at https://www.hudexchange.info/programs/esg/. The statutory provisions and the implementing interim regulations (also found at 24 CFR 576) that govern the program requiring these recordkeeping requirements.

Respondents (i.e., affected public): ESG recipient and subrecipient lead persons.

Estimated Number of Respondents: The ESG record keeping requirements include 18 distinct activities. Each activity requires a different number of respondents ranging from 20 to 78,000. There are 78,000 unique respondents.

Estimated Number of Responses: 526,116.

Frequency of Response: Each activity also has a unique frequency of response, ranging from once annually to monthly.

Average Hours per Response: Each activity also has a unique associated number of hours of response, ranging from 15 minutes to 12 hours and 45 minutes.

Total Estimated Burdens: The total number of hours needed for all reporting is 367,441 hours.

Information collection | Number of respondents | Response frequency (average) | Total annual responses | Burden hours per response | Total annual hours
A | B | C | D | E | F
576.100(b)(2) Emergency Shelter and Street Outreach Cap | 360 | 1 | 360 | 1.0 | 360
576.400(a) Consultation with Continuums of Care | 360 | 1 | 360 | 6.0 | 2,160
576.400(b) Coordination with other Targeted Homeless Services | 2,360 | 1 | 2,360 | 8.0 | 18,880
576.400(c) System and Program Coordination with Mainstream Resources | 2,360 | 1 | 2,360 | 16.0 | 37,760
576.400(d) Centralized or Coordinated Assessment | 2,000 | 1 | 2,000 | 3.0 | 6,000
576.400(e) Written Standards for Determining the Amount of Assistance | 808 | 1 | 808 | 5.0 | 4,040
576.400(f) Participation in HMIS | 78,000 | 1 | 78,000 | 0.5 | 39,000
576.401(a) Initial Evaluation | 50,000 | 1 | 30,000 | 1.0 | 30,000
576.401(b) Recertification | 20,000 | 2 | 40,000 | 0.5 | 20,000
576.401 (d) Connection to Mainstream Resources | 78,000 | 3 | 234,000 | 0.25 | 58,500
576.401(e) Housing retention plan | 50,000 | 1 | 50,000 | .75 | 37,500
576.402 Terminating Assistance | 808 | 1 | 808 | 4.0 | 3,232
576.403 Habitability review | 52,000 | 1 | 52,000 | 0.6 | 31,200
576.405 Homeless Participation | 2,360 | 12 | 28,320 | 1.0 | 28,320
576.500 Recordkeeping Requirements | 2,360 | 1 | 2,360 | 12.75 | 30,009
576.501(b) Remedial Actions | 20 | 1 | 20 | 8 | 160
576.501(c) Recipient Sanctions | 360 | 1 | 360 | 12 | 4,320
576.501(c) Subrecipient Response | 2,000 | 1 | 2,000 | 8 | 16,000
Total | 78,000 |  | 526,116 |  | 367,441

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: May 9, 2016.
Harriet Tregoning,
Principal Deputy Assistance Secretary for Community Planning and Development.

[FR Doc. 2016-11536 Filed 5-13-16; 8:45 am]

BILLING CODE 4210-67-P